Proclamation 9114 of April 30, 2014

Older Americans Month, 2014

By the President of the United States of America

A Proclamation

Older Americans have fortified our country and shaped our world. They have made groundbreaking discoveries, pioneered new industries, led our Nation's businesses, and advanced our unending journey toward a more perfect Union. They have raised strong families and strengthened communities. And with unwavering courage and patriotism, many rose in defense of the land we love. This month, we celebrate the remarkable contributions and sacrifices of our elders, and we offer our renewed gratitude and support.

With decades of experience and unyielding enthusiasm, seniors continue to lift up our neighborhoods, offer perspective on pressing challenges, and serve as role models to our next generation—proving Americans never stop making a difference or giving back. I encourage older Americans to learn about service opportunities in their area by visiting www.SeniorCorps.gov.

My Administration stands with older Americans as they make their mark, which is why we are fighting to protect Social Security and Medicare. Through the Affordable Care Act, we lowered prescription drug costs, prohibited insurers from denying coverage to people with pre-existing conditions, and enabled seniors to receive recommended preventive health care at no out-of-pocket cost.

As vital members of our communities, seniors deserve the resources and information to stay healthy and safe. This year's Older Americans Month theme, “Safe Today, Healthy Tomorrow,” raises awareness about injury prevention. To take control of their safety, seniors can talk to their health care provider about the best physical activities for them, make sure their homes have ample lighting, and install handrails wherever they are helpful—particularly near stairs and in bathrooms.

During Older Americans Month, we pay tribute to our parents, grandparents, friends, neighbors, and every senior near to our hearts. We strive to build a bright future on the strong foundation they have laid.

NOW, THEREFORE, I, BARACK OBAMA, President of the United States of America, by virtue of the authority vested in me by the Constitution and the laws of the United States, do hereby proclaim May 2014 as Older Americans Month. I call upon all Americans of all ages to acknowledge the contributions of older Americans during this month and throughout the year.

IN WITNESS WHEREOF, I have hereunto set my hand this thirtieth day of April, in the year of our Lord two thousand fourteen, and of the Independence of the United States of America the two hundred and thirty-eighth.

[FR Doc. 2014-10455

Filed 5-5-14; 8:45 am]

Billing code 3295-F4